DEPARTMENT OF AGRICULTURE

Forest Service

Superior National Forest Federal Hardrock Mineral Prospecting Permits Project.

AGENCY: Forest Service, USDA.

ACTION: Notice of intent to prepare an environmental impact statement (EIS).

SUMMARY: This analysis would address federal hardrock mineral exploration in terms of 32 current permit applications, future permit applications, current and future operating plans, and future use and occupancy authorizations (Special Use Permits) on the Superior National Forest (SNF) over the next 20 years. The project area covers all SNF managed lands available to mineral exploration. In accordance with the SNF Land and Resource Mangement Plan, the Boundary Waters Canoe Area Wilderness, Mining Protection Area, and Eligible Wild River Segments are not available to mineral exploration. The Forest Service is the lead agency for this EIS and the United States Department of the Interior (USDI), Bureau of Land Management (BLM) is a cooperating agency. As a cooperating agency, the BLM will adopt the EIS to support their own Record of Decision. Federal laws and policies will be outlined in the EIS that will require the SNF, as the agency managing the surface, and the BLM, as the agency responsible for managing sub-surface minerals resources, to consider the Prospecting Permit applications. Based on the Forest Service's recommendations and consent, the BLM will review those recommendations and decide whether to authorize the prospecting permits and operating plans.

DATES: Scoping for this project is planned for January 2009. When the scoping package is completed, it will be sent out for public review and comment. At that time, it will also be available for review, along with supplemental large scale maps, on the Internet at the following Web site: http://www.fs.fed.us/r9/forests/superior/projects/. The draft environmental impact statement is expected February 2010 and the final environmental impact statement is expected June 2010.

ADDRESSES: Send written comments to James W. Sanders, Forest Supervisor, 8901 Grand Avenue Place, Duluth, MN 55808.

FOR FURTHER INFORMATION CONTACT: If you would like additional information or have questions regarding this action, contact Patty Beyer, Project Coordinator at 906-226-1499 or Michael Jimenez, Forest Planner at 218-626-4383.

SUPPLEMENTARY INFORMATION:

Purpose and Need for Action

The purpose and need for this project is three-fold.

First: Analyze the effects to the environment from 32 permit applications and any future prospecting permit applications for hardrock mineral prospecting, and, determine: (a) If the lands requested under the 32 permit applications are available for mineral prospecting and what lands are available for future prospecting permit applications; (b) If activities carried out under such permits are consistent with the purpose for which the land was acquired; and (c) What stipulations will be required for prospecting permits to be issued. The stipulations will include requirements for the protection of surface resources, and for access, construction, or use and protection of existing roads.

Second: Analyze the effects to the environment from future prospecting permit exploration operating plan activities associated with the 32 prospecting permit applications and future prospecting permit applications and to define the terms and conditions and best management practices (BMPs) that would be included in the Forest Service's consent to the BLM for approval of the operating plans. The terms and conditions and BMPs will include requirements for the protection of surface resources, and for access, construction, or use of existing roads.

Third: Analyze effects of special uses located outside of prospecting permit areas (off-permit areas). These activities will be administered under Forest Service Special Use Permits. This includes the need to evaluate the effects from road construction and road reconstruction on off-permit areas. Although specific proposals have not been made, estimates can be made regarding access needs to sites based on previous experience.

Proposed Action

The BLM has received 32 prospecting permit applications from four companies for federal hardrock mineral prospecting on the SNF. The applications cover approximately 43,446 acres and are located within the geologic complex call the Duluth Complex. The main target minerals include copper, nickel, cobalt, lead, zinc, silver, gold, titanium, Platinum Group Elements (PGE) and other associated minerals. In addition, all lands available for mineral exploration within the SNF will be analyzed for future prospecting permit applications and associated operating plans. Prospecting permits, if issued, include various exploration activities under operating plans such as drilling to obtain core samples and air-or-ground based geophysical surveys to determine the location and extent of mineralization, and where ore deposits may be located.

Responsible Official and Nature of Decision To Be Made

The Responsible Official for the Forest Service, the Forest Supervisor for the Superior National Forest, will decide the following three items based on the environmental analysis:

1. What consent recommendations and stipulations will be provided to the Regional Forester so that he may advise the BLM whether the Forest Service consents to the issuance of: (a) The 32 federal hardrock mineral prospecting permit applications, and (b) future hardrock mineral prospecting permits.

2. What advice will be provided to the BLM including terms and conditions and best management practices required for the protection of surface resources, and for access, construction, or use and protection of existing roads for: (a) Operating plans associated with the current 32 federal hardrock mineral prospecting permit applications, and (b) future operating plans associated with future hardrock minerals prospecting permits.

3. Whether to issue future special use and occupancy authorizations for off-prospecting permit areas activities associated with mineral exploration operating plans and what terms and conditions will be required for the protection and management of surface resources. The responsible official for the BLM, the Deputy State Director, will decide in a Record of Decision, whether to approve pending and future hardrock prospecting permits and associated operating plans.

Scoping Process

Public scoping will include notices in the newspaper of record, mailing of the scoping package (detailed information of the purpose and need for the project, the proposed action, description of the project area, maps, and proposed stipulations, terms and conditions, and best management practices) to interested and affected publics and posting of the project on the agency's project planning Web page and notice in the agency's quarterly Schedule of Proposed Actions.

Comment Requested

This notice of intent initiates the scoping proces which guides the development of the environmental impact statement. Comments received, including the names and addresses of those who comment, will be considered part of the public record on this proposal and will be available for public inspection.

Authority: 40 CFR 1501.7 and 1508.22; Forest Service Handbook 1909.15, Section 21.

Dated: November 19, 2008.
James W. Sanders,
Forest Supervisor.

[FR Doc. E8-30167 Filed 12-18-08; 8:45 am]

BILLING CODE 3410-11-P